DEPARTMENT OF JUSTICE

[OMB Number: 1110-0078]

Agency Information Collection Activities; Proposed eCollection eComments Requested; Revision and Renewal of a Currently Approved Collection

AGENCY: Federal Bureau of Investigation, Office of Private Sector, Department of Justice.

ACTION: 60-Day notice.

SUMMARY: The Department of Justice, Federal Bureau of Investigation, Office of Private Sector, is submitting the following information collection request renewal to the Office of Management and Budget (OMB) for review and approval in accordance with the Paperwork Reduction Act of 1995.

DATES: The Department of Justice encourages public comment and will accept input until March 29, 2022.

FOR FURTHER INFORMATION CONTACT: If you have additional comments especially on the estimated public burden or associated response time, suggestions, or need a copy of the proposed information collection instrument with instructions or additional information, please contact Michael Whitaker, Supervisory Special Agent, Federal Bureau of Investigation, Office of Private Sector, 935 Pennsylvania Ave. NW, Washington, DC 20535, MJWhitaker@fbi.gov, 202-324-3000.

SUPPLEMENTARY INFORMATION: Written comments and suggestions from the public and affected agencies concerning the proposed collection of information are encouraged. Your comments should address one or more of the following four points:

➢ Evaluate whether the proposed collection of information is necessary for the proper performance of the functions of the Office of Private Sector, including whether the information will have practical utility;

➢ Evaluate the accuracy of the agency's estimate of the burden of the proposed collection of information, including the validity of the methodology and assumptions used;

➢ Evaluate whether and if so how the quality, utility, and clarity of the information to be collected can be enhanced; and

➢ Minimize the burden of the collection of information on those who are to respond, including through the use of appropriate automated, electronic, mechanical, or other technological collection techniques or other forms of information technology, e.g., permitting electronic submission of responses.

Overview of This Information Collection

1. Type of Information Collection: Revision and renewal of a currently approved collection

2. The Title of the Form/Collection: Voice of Customer Survey

3. The agency form number, if any, and the applicable component of the Department sponsoring the collection: There is no agency form number for this collection. The applicable component within the Department of Justice is the Federal Bureau of Investigation, Office of Private Sector.

4. Affected public who will be asked or required to respond, as well as a brief abstract: Survey will affect businesses or other for-profit, and not-for-profit institutions. The survey is intended to measure the effectiveness of the FBI's Office of Private Sector's engagement efforts with the Private Sector and Academia.

5. An estimate of the total number of respondents and the amount of time estimated for an average respondent to respond: Approximately 900 respondents. Average response time: 15 minutes per respondent.

6. An estimate of the total public burden (in hours) associated with the collection: 225 hours (15 min × 900 respondents).

If additional information is required contact: Melody Braswell, Department Clearance Officer, United States Department of Justice, Justice Management Division, Policy and Planning Staff, Two Constitution Square, 145 N Street NE, 3E.405A, Washington, DC 20530.

Dated: January 24, 2022.
Melody Braswell,
Department Clearance Officer for PRA, U.S. Department of Justice.

[FR Doc. 2022-01697 Filed 1-27-22; 8:45 am]

BILLING CODE 4410-02-P